DEPARTMENT OF ENERGY

Federal Energy Regulatory Commission

[Project No. 15116-001]

Ocean Renewable Power Company, Inc.; Notice of Intent To File License Application, Filing of Draft Application, Request for Waivers of Integrated Licensing Process Regulations Necessary for Expedited Processing of a Hydrokinetic Pilot Project License Application, and Soliciting Comments

a. Type of Filing: Notice of Intent to File a License Application for an Original License for a Hydrokinetic Pilot Project.

b. Project No.: 15116-001.

c. Date Filed: March 18, 2025.

d. Submitted By: Ocean Renewable Power Company, Inc. (ORPC).

e. Name of Project: East Foreland Tidal Energy Project.

f. Location: On the Cook Inlet waterway near Nikiski, Alaska and adjacent lands of the Kenai Peninsula Borough, Alaska.

g. Filed Pursuant to: 18 CFR 5.3 of the Commission's regulations.

h. Applicant Contact: Nathan Johnson, Vice President, Development, ORPC, 254 Commercial Street, Suite 119B, Portland, ME 04101; (207) 712-2927; njohnson@orpc.co.

i. FERC Contact: Amy Chang at (202) 502-6154 or email at amy.chang@ferc.gov.

j. ORPC has filed with the Commission: (1) a notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-federal representative for section 106 consultation under the National Historic Preservation Act (collectively the pre-filing materials).

k. With this notice, we are soliciting comments on the pre-filing materials listed in paragraph j above, including the draft license application and monitoring plans. All comments should be sent to the address above in paragraph h. In addition, all comments must be filed with the Commission. The Commission strongly encourages electronic filing. Please file comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: East Foreland Tidal Energy Project (P-15116-001). Any individual or entity interested in submitting comments on the pre-filing materials must do so by May 17, 2025.

l. With this notice, we are approving ORPC's request to be designated as the non-federal representative for section 7 of the ESA and its request to initiate consultation under section 106 of the National Historic Preservation Act; and recommending that it begin informal consultation with: (a) the U.S. Fish and Wildlife Service and NOAA Fisheries as required by section 7 of ESA; and (b) the Alaska State Historic Preservation Officer, as required by section 106 of the National Historic Preservation Act, and the implementing regulations of the Advisory Council on Historic Preservation at 36 CFR 800.2.

m. With this notice, we also are asking federal, state, local, and tribal agencies with jurisdiction and/or expertise with respect to environmental issues to cooperate with us in the preparation of the environmental document. Agencies who would like to request cooperating status should follow the instructions for filing comments described in paragraph “k” above.

n. This notice does not constitute the Commission's approval of ORPC's request to use the Pilot Project Licensing Procedures. Upon its review of the project's overall characteristics relative to the pilot project criteria, the draft license application contents, and any comments filed, the Commission will determine whether there is adequate information to conclude the pre-filing process.

o. The East Foreland Tidal Energy Project would consist of: (1) a 1.75-megawatt (MW) Proteus Marine Renewables AR1750 tidal device and associated anchoring system; (2) a 0.23 MW ORPC TidGen80® tidal device and associated mooring system; (3) two dedicated power and data cables running from the tidal devices to respective shore stations; (4) four pre-fabricated standard shipping container shore stations; (5) a transmission line; and (6) appurtenant facilities. The project would have a total estimated average annual generation of 6,078,000 kilowatt hours per year.

p. A copy of the draft license application and all pre-filing materials are available for review on the Commission's website (http://www.ferc.gov), using the “eLibrary” link. Enter the docket number, excluding the last three digits of the sub-docket in the docket number field, to access documents. For assistance, contact FERC Online Support. A copy is also available via the contact in paragraph h.

q. Pre-filing Process Schedule. The pre-filing process will be conducted pursuant to the following tentative schedule. Revisions to the schedule below may be made based on staff's review of the draft application and any comments received.

Milestone | Date
Comments on pre-filing materials due | May 17, 2025.
Issuance of meeting notice (if needed) | June 1, 2025.
Public meeting/technical conference (if needed) | July 1, 2025.

The Commission's Rules of Practice and Procedure provide that if a filing deadline falls on a Saturday, Sunday, holiday, or other day when the Commission is closed for business, the filing deadline does not end until the close of business on the next business day. 18 CFR 385.2007(a)(2).

r. Register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595, or at OPP@ferc.gov.

Dated: April 2, 2025.
Debbie-Anne A. Reese,
Secretary.

[FR Doc. 2025-06016 Filed 4-7-25; 8:45 am]

BILLING CODE 6717-01-P